DEPARTMENT OF JUSTICE

Antitrust Division

Notice Pursuant to the National Cooperative Research and Production Act of 1993—Medical Technology Enterprise Consortium

Notice is hereby given that, on October 12, 2018, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances.

Specifically, 8i Labs, Inc., Los Angeles, CA; Adaptive Phage Therapeutics, Inc. (Aphage), Gaithersburg, MD; Aleo BME, Inc., State College, PA; American Defense International (ADI), Washington, DC; Aptima, Inc., Woburn, MA; Atlantic Diving Supply, Inc. (ADS), Virginia Beach, VA; Benchmark Electronics, Inc., Scottsdale, AZ; BioMojo LLC, Cary, NC; BioSpyder Technologies, Inc., Carlsbad, CA; Brain Mapping Foundation, West Hollywood, CA; Brain Power, LLC, Cambridge, MA; BrainScope Company, Inc., Bethesda, MD; CAE Healthcare, Inc., Sarasota, FL; Carmell Therapeutics Corporation, Pittsburgh, PA; Case Western Reserve University, Cleveland, OH; Cell Guidance Systems Ltd., Cambridge, UK; Clear Scientific, LLC, Cambridge, MA; Cornerstone Government Affairs, Inc., Washington, DC; DePuy Synthes Products, Inc., Raynham, MA; Dignitas Technologies, Orlando, FL; ECM Therapeutics, Inc., Warrendale, PA; ElMindA Ltd., Herzliya, Israel; Family Health International DBA FHI 360, Durham, NC; Hypatia Project, Reston, VA; Institutes for Behavior Resources, Inc. (IBR), Baltimore, MD; Integrated MicroSciences, LLC, Frederick, MD; J. Craig Venter Institute (JCVI), Rockville, MD; KaloCyte, Inc., St. Louis, MO; Lieber Institute, Inc., Baltimore, MD; NanoDirect, LLC, Baltimore, MD; OXYVITA, Inc., Middletown, NY; Parsons Government Services, Inc., Pasadena, CA; Protocentral, Inc., Woburn, MA; Q2Pharma, Haifa, Israel; RAIN Scientific, Inc., Asheville, NC; Rehat, LLC, Pittsburgh, PA; Research Foundation for Mental Hygiene, Inc. (NYSPI), New York, NY; Responde2 Corporation, Mountain View, CA; Saint Barnabas Medical Center (SBMC), Livingston, NJ; San Diego Blood Bank, San Diego, CA; SmartMD Systems, Inc., Manchester Center, VT; Sonica LLC, Evanston, IL; Spire, San Francisco, CA; Syracuse University, Syracuse, NY; The Charles Stark Draper Laboratory, Inc. (Draper), Cambridge, MA; The University of Arizona, Defense and Security Research Institute (DSRI), Tucson, AZ; Trauma Insight, LLC, San Antonio, TX; Trustees of Boston University, Boston, MA; University of Central Florida Research Foundation, Inc., Orlando, FL; University of Houston—Cullen College of Engineering, Houston, TX; Vivonics, Inc., Bedford, MA; and Washington State University, Pullman, WA; have been added as parties to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on May 3, 2018. A notice was published in the Federal Register pursuant to Section 6(b) of the Act on June 19, 2018 (83 FR 28448).

Suzanne Morris,
Chief, Premerger and Division Statistics Unit Antitrust Division.

[FR Doc. 2018-23989 Filed 11-1-18; 8:45 am]

BILLING CODE 4410-11-P